DEPARTMENT OF ENERGY

Federal Energy Regulatory Commission

[Docket No. RP00-506-007]

Northwest Pipeline Corp.; Notice of Correction of Compliance Filing

June 18, 2001.

Take notice that on June 11, 2001, Northwest Pipeline Corporation (Northwest) submitted revised schedules to correct certain supplemental information filed by Northwest on May 25, 2001 relating to Northwest's proposed policy on partial capacity turnbacks.

Northwest states that a copy of this filing has been served upon each person designated on the official service list compiled by the Secretary in this proceeding.

Any person desiring to protest said filing should file a protest with the Federal Energy Regulatory Commission, 888 First Street, NE., Washington, DC 20426, in accordance with § 385.211 of the Commission's rules and regulations. All such protests must be filed on or before June 28, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/doorbell.htm.

Linwood A. Watson, Jr.,
Acting Secretary.

[FR Doc. 01-15694 Filed 6-21-01; 8:45 am]

BILLING CODE 6717-01-M